DEPARTMENT OF COMMERCE

National Oceanic and Atmospheric Administration

Submission for OMB Review; Comment Request

The Department of Commerce will submit to the Office of Management and Budget (OMB) for clearance the following proposal for collection of information under the provisions of the Paperwork Reduction Act.

Agency: National Oceanic and Atmospheric Administration (NOAA).

Title: Tilefish Individual Fishing Quota Program.

OMB Control Number: 0648-0590.

Form Number(s): None.

Type of Request: Regular (extension, without change, of a currently approved collection).

Number of Respondents: 12.

Average Hours per Response: IFQ Allocation Permit—30 minutes; IFQ Allocation Interest Declaration and IFQ Transfer forms—5 minutes each; Fees and Cost Recovery—1 minute.

Burden Hours: 20.5.

Needs and Uses: NOAA Fisheries needs to administer and monitor the Tilefish Individual Fishing Quota (IFQ) Program to ensure the fishery can achieve optimum yield while avoiding overfishing. To administer the IFQ program, the agency issues annual IFQ Allocation permits. These permits are needed to inform allocation holders of their annual catch quota and for enforcement purposes to ensure vessels do not exceed an individual quota allocation. To achieve its objectives, it is essential that an IFQ program allow the free transfer of quota shares. In order to process an IFQ transfer (temporary or permanent), NMFS requires that an IFQ Allocation permit holder submit an IFQ transfer form. When the Mid-Atlantic Fishery Management Council established the Tilefish IFQ Program, it included a provision that no person, corporation, or other entity may hold more that 49 percent of the total tilefish IFQ allocation. In order to monitor this cap, IFQ Allocation permit holders must disclose their ownership interest in any other holder of IFQ allocation annually, prior to receiving their annual permit. In addition to other provisions, the Magnuson-Stevens Fishery Conservation and Management Act requires NOAA Fisheries to collect fees to recover the costs directly related to the management, data collection and analysis, and enforcement of IFQ programs.

Affected Public: Individuals or households and Business or other for-profit.

Frequency: Annually and as requested.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-00602 Filed 1-15-20; 8:45 am]

BILLING CODE 3510-22-P